DEPARTMENT OF ENERGY

Federal Energy Regulatory Commission

[Docket No. AC05-54-000, et al.]

Wisconsin Public Service Corporation, et al.; Electric Rate and Corporate Filings

May 24, 2005.

The following filings have been made with the Commission. The filings are listed in ascending order within each docket classification.

1. Wisconsin Public Service Corporation

[Docket No. AC05-54-000]

Take notice that on May 5, 2005, Wisconsin Public Service Corporation (WPSC) tendered for filing Notification of its intention to use deferred accounting in connection with the incremental costs which are being incurred as a result of a forced outage at the Kewaunee Nuclear Power Plant.

WPSC states that copies of this filing were served on WPSC's wholesale customers.

Comment Date: June 8, 2005.

2. Arthur Kill Power LLC

[Docket No. EG05-66-000]

Take notice that on May 19, 2005, Arthur Kill Power LLC (Arthur Kill) tendered for filing an application for redetermination of exempt wholesale generator status pursuant to section 32 of the Public Utility Holding Company Act of 1935 and part 365 of the Commission's regulations.

Arthur Kill states that it is a limited liability company that will be engaged either directly or indirectly and exclusively in the business of owning and operating an electric generation facility located in New York.

Comment Date: 5 p.m. Eastern Time on June 9, 2005.

3. New York Independent System Operator, Inc.

[Docket No. EL05-84-001, ER05-572-001]

Take notice that on May 16, 2005, the New York Independent System Operator, Inc. (NYISO) has provided service agreements designations under its Open Access Transmission Tariff to Niagara Mohawk Power Company in compliance with the Commission's April 15, 2005 Order in Docket Nos. ER05-572-000 and EL05-84-000.

YISO states that it has served a copy of its filing on the official service lists.

Comment Date: 5 p.m. Easter Time on June 3, 2005.

4. Entergy Services, Inc.

[Docket Nos. EL95-33-006, ER00-2854-005, EL00-66-004]

Take notice that on May 18, 2005, Entergy Services, Inc., on behalf of the Entergy Operating Companies, Entergy Arkansas, Inc., Entergy Gulf States, Inc., Entergy Louisiana, Inc., Entergy Mississippi, Inc., and Entergy New Orleans, Inc., tendered its compliance filing in response to the orders in Louisiana Public Service Commission and the Council of the City of New Orleans v. Entergy Corporation, et., al106 FERC ¶ 61,228 (2004); 111 FERC ¶ 61,080 (2005).

Comment Date: 5 p.m. Easter Time on June 17, 2005.

5. Condon Wind Power, LLC

[Docket No. ER02-305-005]

Take notice that on May 18, 2005 Condon Wind Power, LLC (Condon) submitted for filing revised market-based rate tariff in compliance with the Commission's order issued April 18, 2005, AES Huntington Beach, LLC, et al., 111 FERC ¶ 61,079. (2005).

Comment Date: 5 p.m. on June 8, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please email FERCOnlineSupport@ferc.gov or call (866) 208-3676 (toll free). For TYY, call (202) 502-8659.

Linda Mitry,
Deputy Secretary.

[FR Doc. E5-2792 Filed 6-1-05; 8:45 am]

BILLING CODE 6717-01-P